DEPARTMENT OF DEFENSE

Department of the Army

Notice of Intent to License Government-Owned Inventions; Intent to License on a Partially-Exclusive Basis

AGENCY: Department of the Army, DoD.

ACTION: Notice.

SUMMARY: The inventions listed below are assigned to the United States Government as represented by the Secretary of the Army. The US Army Edgewood Chemical Biological Center intends to license these inventions on a partially-exclusive basis to Lighthouse Worldwide Solutions, Inc, a California Corporation with principal offices at, 47300 Landing Parkway, Fremont, CA 94538. The inventions to be licensed collectively enable a Tactical Biological Detector (TAC-BIO), and are disclosed in U.S. Patent 6,967,338 Application Serial No10/720877 filed 11/24/2003, issued 11/22/2005 and entitled “Micro UV particle detector,” U.S. Patent 7,375,348 Application Serial No 11/268758 filed 11/03/2005, issued 05/20/2008 and entitled “Micro UV detector,” U.S. Patent 7,567,391 Application Serial No 11/748817 filed 05/15/2007, issued 07/28/2009 and entitled “Radiation source with self-aligning optics,” U.S. Patent 7,852,469 Application Serial No 11/867190 filed 10/04/2007, issued 12/14/2010 and entitled “Particle detector,” DAM 689-08 Application Serial No.12/380,366 filed 02/26/2009 and entitled “Photon counting based particle detection method and apparatus.”

ADDRESSES: Requests for more information and/or objections should be directed to Eric McGill, telephone: 410-436-8467, eric.s.mcgill.ctr@mail.mil, US Army Edgewood Chemical Biological Center (ECBC), AMSRD-ECB-PI-BP-TT, Bldg E3330/Rm 241 5183 Blackhawk Road, APG, MD 21010-5424. Any requests or objections should be made within 15 days of the publication of this notice.

FOR FURTHER INFORMATION CONTACT: Dhirajlal Parekh, Office of Research and Technology Applications, US Army Edgewood Chemical Biological Center, AMSRD-ECB-PI-BP-TT, Bldg E3330/Rm 241 5183 Blackhawk Road, APG, MD 21010-5424, telephone: 410-436-8400, email: dhirajlal.parekh,civ@mail.mil.

SUPPLEMENTARY INFORMATION: None.

Brenda S. Bowen,
Army Federal Register Liaison Officer.

[FR Doc. 2012-28883 Filed 11-29-12; 8:45 am]

BILLING CODE 3710-08-P